DEPARTMENT OF ENERGY

National Energy Technology Laboratory; Notice of intent to issue a Financial Assistance Solicitation (PS)

AGENCY: National Energy Technology Laboratory (NETL), Department of Energy (DOE).

ACTION: Notice of Intent to Issue a Financial Assistance Solicitation.

SUMMARY: Notice is hereby given of the intent to issue Financial Assistance Solicitation No. DE-PS26-02NT41434 entitled “Deep Trek Program Solicitation.” The general goal of this research and development effort is to support development of new and/or innovative technologies that are required to meet the needs of the U.S. natural gas industry in gaining improved access to natural gas resources at depths beyond 20,000 feet. The “Deep Trek Program Solicitation” supports the DOE/NETL's Strategic Center for Natural Gas' 2020 Vision of increased benefits to the U.S. public from an affordable supply, reliable delivery, and increased environmental protection from an increase in natural gas usage. Industry input on the solicitation objectives was obtained during a workshop in Houston, Texas on March 20-21, 2001. The objective of this solicitation is to increase the overall effective rate-of-penetration (ROP) for deep drilling, including technologies such as “Smart'' systems and materials for the hostile environment normally found at depths beyond 20,000 feet.

DATES: The solicitation will be available on the “Industry Interactive Procurement System” (IIPS) Web page located at http://e-center.doe.gov on or about March 12, 2002. Applicants can obtain access to the solicitation from the address above or through DOE/NETL's Web site at http://www.netl.doe.gov/business.

ADDRESSES: The solicitation and any subsequent amendments will be published on the DOE/NETL's Internet address at http://www.netl.doe.gov/business and on the IIPS Web page located at http://e-center.doe.gov. Comments and/or questions prior to the issuance of the solicitation shall be forwarded to the mailing address or e-mail address provided below.

FOR FURTHER INFORMATION CONTACT: Kelly A. McDonald, MS I07, U.S. Department of Energy, National Energy Technology Laboratory, 3610 Collins Ferry Road, P.O. Box 880, Morgantown, WV 26507-0880. E-mail Address: kelly.mcdonald@netl.doe.gov. Telephone Number: (304) 285-4113.

SUPPLEMENTARY INFORMATION: It is anticipated that this action will consist of a single solicitation with multiple closing dates. It is also anticipated that a pre-application process will be used. After consideration of the technical discussion of the pre-application, each applicant will be notified as to whether the applicant can submit a subsequent comprehensive application. The program solicitation will focus on the following two specific topic areas:

1. Improved economics in deep well drilling, including, but not limited to: (1) Innovative drilling hardware concepts to improve rate-of-penetration (ROP) in deep hostile environments, with a focus on material science, electronics, software development and advanced drilling fluid technology advancements; and, (2) Improvements in diagnostic capability during drilling operations.

2. Improved economics in deep well completions, including, but not limited to: Drilling and completion fluid optimization for deep wells.

It is anticipated that the work performed under this action will consist of three (3) phases similar to the following:

Phase I—Feasibility Concept Definition;

Phase II—Prototype Development or Research, Development, and Testing;

Phase III—Field/System Demonstration and Commercialization.

The maximum period of performance for all three (3) phases is estimated at forty-eight (48) months. The goal of this procurement is to work toward a demonstration of concepts at a commercially scalable size. It is recognized that each applicant may propose varying scopes of effort for one or more of the three (3) phases, and consequently, an applicant is not required to perform all Phase I activities if significant work on Phase I type activities has been previously completed. If the applicant proposed to initially proceed to Phase II or III efforts, information must be included in their application which demonstrates the merit of the previous research and reference to the results. For successful applicants proposing to Phase II or III, the cost of work performed by the applicant to satisfy the Phase I or II requirements prior to the execution of the resulting agreement will not be considered when calculating cost share. Due to the nature and objective of this solicitation, it is anticipated that a mixture of applications will be accepted with staggered beginning dates, and it is therefore anticipated that any applicant selected for award shall proceed on it's own schedule, independent of any other application. The schedule will be based on the best estimate of the time it will take the team to complete the three (3)-phase effort and address the solicitation objective.

DOE anticipates multiple cooperative agreement awards under each topic area resulting from this solicitation, and no fee or profit will be paid to a Recipient or Subrecipient under the awards. This particular program is covered by Section 3001 and 3002 of the Energy Policy Act (EPAct), 42 U.S.C. 13542. EPAct 3002 requires a cost-share commitment of at least 20 percent from non-Federal sources for research and development projects and at least 50 percent for demonstration and commercial projects. Depending on the phase and maturation stage of the agreement, cost-share expectations will range from 20 to 50 percent. This particular program is also covered by section 2306 of EPAct, 42 U.S.C. 13525. In order for a company to be eligible for an award under this solicitation, the company's participation must be in the economic interest of the U.S. and the company must either be a U.S.-owned company or incorporated in the U.S. with its parent company incorporated in a country that (i) affords to U.S.-owned companies opportunities, comparable to those afforded to any other company, to participate in any joint venture similar to those authorized under the Act; (ii) affords to U.S-owned companies local investment opportunities comparable to those afforded to any other company; and (iii) affords adequate and effective protection for the intellectual property rights of U.S.-owned companies. This eligibility requirement also applies to all companies participating in any joint venture, “team” arrangement, or as a major subcontractor. The solicitation will contain as part of the application package the applicable EPAct representation form(s). In addition to EPAct, applicant's must incur at least 75 percent of the direct labor cost for the project (including subcontractor labor) in the U.S.. At current planning levels, and subject to the availability of funds, DOE expects to provide up to approximately $3,400,000 to support work under this solicitation. Applications which include performance of Federal agencies and agents (i.e. Management and Operations (M&O) contractors and/or National Laboratories) as a team member will be acceptable under this solicitation if the proposed use of any such entities is specifically authorized by the executive Federal agency managing the M&O or National Laboratory, and the work is not otherwise available from the private sector. Such work, if approved, would be accomplished through a direct transfer of funding from the NETL to the M&O contractor and/or National Laboratory. Even though participation of an M&O and/or National Laboratory may be appropriate, their participation cannot exceed thirty-five (35) percent of the applicant's total estimated project cost.

Once released, the solicitation will be available for downloading from the IIPS Internet page. At this Internet site you will also be able to register with IIPS, enabling you to submit an application. If you need technical assistance in registering or for any other IIPS function, call the IIPS Help Desk at (800) 683-0751 or e-mail the Help Desk personnel at IIPS_HelpDesk@e-center.doe.gov. The solicitation will only be made available in IIPS, no hard (paper) copies of the solicitation and related documents will be made available.

Prospective applicants who would like to be notified as soon as the solicitation is available should subscribe to the Business Alert Mailing List at http://www.netl.doe.gov/business. Once you subscribe, you will receive an announcement by e-mail that the solicitation has been released to the public. Telephone requests, written requests, e-mail requests, or facsimile requests for a copy of the solicitation package will not be accepted and/or honored. Applications must be prepared and submitted in accordance with the instructions and forms contained in the solicitation. The actual solicitation document will allow for requests for explanation and/or interpretation.

Issued in Morgantown, WV, on February 15, 2002.
Randolph L. Kesling,
Director, Acquisition and Assistance Division.

[FR Doc. 02-4778 Filed 2-27-02; 8:45 am]

BILLING CODE 6450-01-P